DEPARTMENT OF LABOR

Employment and Training Administration

[TA-W-36,108 & NAFTA 3,104]

Sherman Lumber Company, Sherman Station, ME; Notice of Negative Determination on Reconsideration

On August 17, 1999, the Department issued an Affirmative Determination Regarding Application for Reconsideration for the workers and former workers of the subject firm. The notice was published in the Federal Register on August 31, 1999 (64 FR 47521).

The Department initially denied TAA to workers of Sherman Lumber because the “contributed importantly” group eligibility requirement of Section 222(3) of the Trade Act of 1974, as amended, was not met. The workers at the subject firm were engaged in employment related to the production of maple flooring.

The petitioner asserted that sufficient customers have not been surveyed and requested that the Department survey bids lost by the subject firm.

On reconsideration, the Department requested that the subject firm provide additional information about customers and lost bids. The Department conducted a survey of lost domestic bids by the subject firm. The respondents indicated that their purchase of maple flooring were from domestic manufacturers.

Conclusion

After reconsideration, I affirm the original notice of negative determination of eligibility to apply for worker adjustment assistance for workers and former workers of Sherman Lumber, Sherman Station, Maine.

Signed at Washington, DC, this 21st day of April, 2000.
Edward A. Tomchick,
Program Manager, Division of Trade Adjustment Assistance.

[FR Doc. 00-11120 Filed 5-3-00; 8:45 am]

BILLING CODE 4510-30-M